FEDERAL ELECTION COMMISSION

Sunshine Act Notice

TIME AND DATE: Thursday, January 28, 2021 at 10:00 a.m.

PLACE: Virtual hearing. Note: Because of the COVID-19 pandemic, we will conduct the hearing virtually. If you would like to access the hearing, see the instructions below.

STATUS: This hearing will be open to the public. To access the virtual hearing, go to the commission's website www.fec.gov and click on the banner to be taken to the hearing page.

MATTER TO BE CONSIDERED: Audit Hearing: Grassroots Victory Political Action Committee.

CONTACT PERSON FOR MORE INFORMATION: Judith Ingram, Press Officer, Telephone: (202) 694-1220.

Authority: Government in the Sunshine Act, 5 U.S.C. 552b.

Laura E. Sinram,
Acting Secretary and Clerk of the Commission.

[FR Doc. 2021-01695 Filed 1-22-21; 4:15 pm]

BILLING CODE 6715-01-P